DEPARTMENT OF STATE

[Public Notice 9596]

U.S. Department of State Advisory Committee on Private International Law: Public Meeting on Online Dispute Resolution

The Office of the Assistant Legal Adviser for Private International Law, Department of State, hereby gives notice that the Online Dispute Resolution (ODR) Study Group of the Advisory Committee on Private International Law (ACPIL) will hold a public meeting. The ACPIL ODR Study Group will meet to discuss the draft instrument entitled “Technical Notes on Online Dispute Resolution” which has been submitted to the UN Commission on International Trade Law (UNCITRAL) for consideration at its 2016 plenary session (June 27-July 15, 2016). This is not a meeting of the full Advisory Committee.

At the July 2015 plenary session of UNCITRAL, the ODR Working Group was instructed to prepare a non-binding descriptive document reflecting elements of an ODR process, on which elements the Working Group had previously reached consensus, and excluding the question of the final stage of the ODR process (arbitration/nonarbitration). Report of the United Nations Commission on International Trade Law, 48th Session (29 June-16 July 2015), A/70/17, para. 352. The Working Group based its deliberations on a proposal for Technical Notes on Online Dispute Resolution submitted by Colombia and the United States. A/CN.9/WG.III/XXXII/CRP.3. The proposal by Colombia and the United States, as well as the reports of the Working Group are available at the following link: http://www.uncitral.org/uncitral/commission/working__groups/3Online_Dispute_Resolution.html. The draft Technical Notes on Online Dispute Resolution are available at http://undocs.org/A/CN.9/888.

Time and Place: The meeting of the ACPIL ODR Study Group will take place on Thursday June 16 from 10 a.m. to 12 noon EST at 2430 E Street NW., South Building (SA 4S) State Department Annex 4A (Navy Hill), Room 356. Participants should arrive at Navy Hill before 9:45 a.m. for visitor screening. Participants will be met at the Navy Hill gate at 23rd and D Streets NW., for visitor screening and will be escorted to the South Building. Persons arriving later will need to make arrangements for entry using the contact information provided below. If you are unable to attend the public meeting and would like to participate from a remote location, teleconferencing will be available.

Public Participation: This meeting is open to the public, subject to the capacity of the meeting room. Access to the building is strictly controlled. For pre-clearance purposes, those planning to attend should email pil@state.gov providing full name, address, date of birth, citizenship, driver's license or passport number, and email address. This information will greatly facilitate entry into the building. A member of the public needing reasonable accommodation should email pil@state.gov not later than June 10th. Requests made after that date will be considered, but might not be able to be fulfilled. If you would like to participate by telephone, please email pil@state.gov to obtain the call-in number and other information.

Data from the public is requested pursuant to Public Law 99-399 (Omnibus Diplomatic Security and Antiterrorism Act of 1986), as amended; Public Law 107-56 (USA PATRIOT Act); and E.O. 13356. The purpose of the collection is to validate the identity of individuals who enter Department facilities.

The data will be entered into the Visitor Access Control System (VACS-D) database. Please see the Security Records System of Records Notice (State-36) at https://foia.state.gov/_docs/SORN/State-36.pdf for additional information.

Dated: May 25, 2016.
Michael J. Dennis,
Attorney-Adviser, Office of Private International Law, Office of the Legal Adviser, U.S. Department of State.

[FR Doc. 2016-13163 Filed 6-2-16; 8:45 am]

BILLING CODE 7410-08-P